FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202)-523-5793 or tradeanalysis@fmc.gov.

Agreement No.: 010977-063.

Title: Hispaniola Discussion Agreement.

Parties: Crowley Liner Services and Seaboard Marine Ltd.

Filing Party: Wayne R. Rohde, Esq.; Sher & Blackwell LLP; 1850 M Street, NW.; Suite 900; Washington, DC 20036.

Synopsis: The amendment terminates the general authorities of the Agreement effective May 31, 2010, but allows the parties to continue their Agreement service contracts obligations through June 30, 2010 on which date the Agreement will be terminated in its entirety.

Agreement No.: 011075-073.

Title: Central America Discussion Agreement.

Parties: APL Co. PTE Ltd.; Crowley Latin America Services, LLC.; Dole Ocean Cargo Express; Great White Fleet; King Ocean Services Limited; and Seaboard Marine, Ltd.

Filing Party: Wayne R. Rohde, Esq.; Sher & Blackwell LLP; 1850 M Street, NW.; Suite 900; Washington, DC 20036.

Synopsis: The amendment adds the Dominican Republic and Haiti to the geographic scope of the Agreement.

Agreement No.: 011830-008.

Title: Indamex Cross Space Charter, Sailing and Cooperative Working Agreement.

Parties: APL Co. Pte Ltd; American President Lines, Ltd.; Nippon Yusen Kaisha; Orient Overseas Container Line Limited.

Filing Parties: Wayne R. Rohde, Esq.; Sher & Blackwell LLP; 1850 M Street, NW.; Suite 900; Washington, DC 20036.

Synopsis: The amendment authorizes the deployment of an eighth vessel, makes conforming revisions to the forgoing, and adds Savannah to the port rotation.

Agreement No.: 012094.

Title: Tropical Shipping & Construction Co., Ltd. and United Abaco Shipping Company Limited Slot Charter and Sailing Agreement.

Parties: Tropical Shipping & Construction Co., Ltd. and United Abaco Shipping Company Limited.

Filing Parties: Neal M. Mayer, Esq.; Hoppel, Mayer & Coleman; 1050 Connecticut Avenue NW., 10th Floor; Washington, DC 20036.

Synopsis: The agreement authorizes Tropical and United Abaco to charter slots to one another on an “as needed, as available” basis in the trade between ports on the East Coast of Florida and ports in the Bahamas.

By Order of the Federal Maritime Commission.
Dated: April 16, 2010.
Rachel E. Dickon,
Assistant Secretary.

[FR Doc. 2010-9200 Filed 4-20-10; 8:45 am]

BILLING CODE 6730-01-P